ADVISORY COUNCIL ON HISTORIC PRESERVATION

Notice of Proposed Policy Statement on Historic Preservation and Community Revitalization

AGENCY: Advisory Council on Historic Preservation.

ACTION: The Advisory Council on Historic Preservation seeks public comments on its draft Policy Statement on Historic Preservation and Community Revitalization.

SUMMARY: The Advisory Council on Historic Preservation (ACHP) is planning on issuing a “Policy Statement on Historic Preservation and Community Revitalization.” A Working Group, comprised of ACHP members and other preservation organizations, has drafted a policy and invites your views and comments. The Working Group will use your comments to finalize the draft policy before it is presented to the full ACHP membership for consideration and adoption.

DATES: Submit comments on or before April 4, 2016.

ADDRESSES: Address all comments concerning this proposed policy to Charlene Dwin Vaughn, Assistant Director, Office of Federal Agency Programs, Advisory Council on Historic Preservation, 401 F Street NW., Room 301, Washington, DC 20001. You may also submit comments by facsimile at 202-517-6384 or by electronic mail to ACHPRightsizing@achp.gov.

FOR FURTHER INFORMATION CONTACT: Charlene Dwin Vaughn, 202-517-0207

SUPPLEMENTARY INFORMATION: The Advisory Council on Historic Preservation (ACHP) is an independent federal agency, created by the National Historic Preservation Act that promotes the preservation, enhancement, and sustainable use of our nation's diverse historic resources, and advises the President and Congress on national historic preservation policy.

Section 106 of the National Historic Preservation Act (Section 106), 54 U.S.C. 306108, requires federal agencies to consider the effects of their undertakings on historic properties and provide the ACHP a reasonable opportunity to comment with regard to such undertakings. The ACHP has issued the regulations that set forth the process through which federal agencies comply with these duties. These regulations are codified under 36 CFR part 800.

I. Background on the Draft Policy Statement

In March 2013, the ACHP issued a report entitled Managing Change: Preservation and Rightsizing in America. It can be accessed at http://www.achp.gov/RightsizingReport.pdf. The report focused on communities that were addressing rightsizing. The concept of rightsizing applied to communities undergoing substantial change due to economic decline, population loss, increased amounts of vacancy and abandonment, decline in local services, increased homelessness and poverty, declining educational opportunities, and systemic blight. Rightsizing has been occurring in communities around the Nation for decades as they respond to transformative events. The report contained the findings and recommendations of extensive research, on-site visits, and ACHP participation on panels and seminars during which stakeholders shared their views regarding the effect of rightsizing on the community.

The primary findings of the report included the following observations:

—Historic preservation tools are not used to maintain the historic integrity of rightsizing communities;

—Historic preservation needs to be better integrated in local planning and economic development;

—Federal programs that can support rightsizing in a manner that builds on community historic resources are not readily available;

—The early initiation of project review under Section 106 of the National Historic Preservation Act (NHPA) can facilitate the analysis of alternative redevelopment strategies that can integrate historic properties; and

—Federal programs that are targeted to extensive demolition in a community do not always reflect the preference of the residents in a community.

As the ACHP explored options to implement the recommendations in the report, it was concluded that the development of a policy statement would be appropriate to advance historic preservation.

In 2006, the ACHP adopted a “Policy Statement on Affordable Housing and Historic Preservation” to assist stakeholders in utilizing historic properties for affordable housing projects with minimal delays. It can be accessed at http://www.achp.gov/docs/fr7387.pdf. This Policy Statement was well received by stakeholders. The principles outlined in the document are still used when conducting historic preservation reviews for affordable housing projects.

The purpose of developing the Policy Statement on Historic Preservation and Community Revitalization in 2016 is to ensure that preservation is considered as a tool that will assist federal, state and local governments plan and implement revitalization projects and programs in a manner that reuses and rehabilitates historic properties.

The Working Group convened by the ACHP to assist in developing the policy statement began meeting in December 2014. Representatives of the Working Group included, Brad White, Expert Member of the ACHP, as the Chairman, the US Department of Housing and Urban Development, US Department of Agriculture, Department of Health and Human Services, the National Park Service, the National Trust for Historic Preservation, the American Assembly, Cleveland Restoration Society, Preservation Research Office, Historic Districts Council, Rightsizing Network, Michigan State Historic Preservation Office, and Indiana Historic Preservation Office. After consulting for approximately one year to discuss the major problem areas that needed to be addressed in rightsizing and legacy cities, a working draft of the Policy Statement was drafted, and distributed to ACHP members for review.

The comments received from ACHP members resulted in revisions to the draft policy statement to achieve the following:

—Focus on rural and tribal communities as well as Legacy Cities;

—Emphasize the value of preparing local architectural and archeological surveys;

—Emphasize how the principles apply to Section 106 of the National Historic Preservation Act;

—Reference the role of field, regional, and state offices in preserving local assets;

—Address how Section 106 reviews can be expedited; and

—Define how creative mitigation measures can facilitate preservation in communities.

The ACHP invites comments from the public on the draft Policy Statement (see text at the end of this notice), particularly as it relates to the following questions:

1. How can the principles in the draft Policy Statement help communities balance the goal of historic preservation and the revitalization of neighborhoods and communities?

2. How will the principles in the draft Policy Statement establish a framework for decision making when communities receive federal funding to assist distressed neighborhoods?

3. How will State Historic Preservation Officers and Certified Local Governments apply the principles in their review of local revitalization programs?

4. Will the draft Policy Statement assist federal, state and local officials, developers, residents, and other stakeholders to explore alternatives for preserving historic properties in planning revitalization projects?

5. How can the adoption of creative mitigation measures help a community to preserve its historic properties?

6. What form of guidance will be needed to implement the principles in this draft Policy Statement?

7. Are there any other major obstacles to using historic preservation tools in community revitalization projects that have not been addressed in this draft Policy Statement?

The ACHP appreciates receiving public input on the draft Policy Statement. Your comments will ensure that we have taken a holistic approach in advancing historic preservation as a viable tool that can help diverse communities who are recipients of federal, state, and local assistance.

II. Text of the Draft Policy

DRAFT ADVISORY COUNCIL ON HISTORIC PRESERVATION (ACHP) POLICY STATEMENT ON HISTORIC PRESERVATION AND COMMUNITY REVITALIZATION (February 19, 2016)

Introduction. The 2010 US Census revealed that, as a result of the decline in the economy beginning in 2008, an estimated 19 million properties were abandoned throughout the nation. As a result of the economic downturn, many buildings, in particular historic properties, became vacant and abandoned, resulting in severe blight around the Nation. Many economists compared the impacts of the economic downturn in 2008 to that of the Great Depression in the 1930s. Natural disasters, economic downturns, and the mortgage foreclosure crisis all occurred at the beginning of the 21st century and eroded urban, rural, and tribal communities. While these events resulted in significant economic impacts across the country, they accelerated declines in population, tax base, industry, jobs, and housing markets caused by structural changes to the economy in the Midwest, Northeast, and Mid-Atlantic regions. The estimated demolition of 200,000 properties annually during this period exemplified the extreme actions many communities took that resulted in the loss of homes, buildings, and even entire neighborhoods, many of which included older historic buildings that were listed in or eligible for listing in the National Register of Historic Places. Although older communities known as “legacy cities” have been confronted with these issues, research has revealed that suburban, rural, and tribal communities have dealt with similar problems.

One class of communities, many of which were located in industrial centers, was hit particularly hard, struggling with economic challenges that transcend market cycles such as the recent recession. These communities, marked by population loss exceeding 20 percent, require a holistic approach to bring about their revitalization. Many are older communities with historic architecture, social cohesiveness, and walkable neighborhoods—features which have increasingly grown more attractive in real estate markets that are in the process of recovering.

In 1966 when Congress passed the National Historic Preservation Act (NHPA), it determined that “the historical and cultural foundations of the nation should be preserved in order to give a sense of orientation to the American people.” Further, it stated that “in the face of ever increasing extensions of urban centers, highways, and residential, commercial, and industrial developments, the present governmental and nongovernmental historic preservation programs are inadequate to ensure future generations a genuine opportunity to appreciate and enjoy the nation's rich heritage.”

The congressional findings in the NHPA remain applicable today, particularly since the economic crisis of 2008. The Advisory Council on Historic Preservation (ACHP), established by the NHPA to advise the President and Congress on matters relating to historic preservation, considers local community revitalization critical to stabilizing these economically depressed communities. In overseeing federal project reviews required by Section 106 of NHPA, patterns and trends have revealed that historic preservation reviews are often not completed before federal funds are allocated for redevelopment. Preservation options are not considered and opportunities to reuse existing assets are missed. Communities, therefore, need guidance that illustrates how historic preservation can help them to determine the disposition of vacant and abandoned properties, promote rehabilitation, create affordable housing, direct growth to target areas that have infrastructure, use new infill construction to stabilize neighborhoods, and develop mixed use projects.

The ACHP issued a report entitled, Managing Change: Preservation and Rightsizing in America, in March 2013, which focused on communities addressing “rightsizing.” Rightsizing applies when communities have shrinking populations, vacancy and abandonment, and systemic blight issues. The report defined it as “the process of change confronting communities that have drastically reduced population and excess infrastructure with a dwindling tax base, in need of planning to recalibrate.” It also identified the role of historic preservation in rightsizing as well as noting relevant existing federal programs and policies. The extensive research, newspaper and journal articles, and organizational and institutional reports on rightsizing revealed that consideration of historic preservation issues in rightsizing decisions was often the exception. The ACHP report noted that rightsizing should include revitalization. Likewise, it noted that rightsizing is not uniquely an urban phenomenon. Rather, it encompasses diverse communities, including older suburbs and rural villages. All are in need of technical assistance, education, and outreach to help residents, developers, and local officials use historic preservation tools.

Purpose. In accordance with Section 202 of the NHPA, the ACHP is issuing this Policy Statement to provide federal agencies, the individuals, organizations, or governments that apply for federal assistance, and public and private partners with a flexible and creative approach to developing local revitalization plans that use historic properties. It is intended to help address the substantial challenges facing communities that have experienced significant population and job loss, as well as other communities requiring strategies for revitalization. The Policy Statement is designed to assist federal agencies and their grantees and applicants, State Historic Preservation Officers (SHPOs), Tribal Historic Preservation Officers (THPOs), Certified Local Governments (CLGs), and local governments in complying with the requirements of Section 106 of the NHPA. Section 106 requires federal agencies to take into account the effects of their undertakings on historic properties and afford the ACHP a reasonable opportunity to comment. With a predictable and consistent policy framework, federal agencies and communities will be encouraged to integrate historic preservation in revitalization strategies. The policy acknowledges that consideration of alternatives to avoid or minimize harm to historic properties is essential when planning revitalization projects. Further, by engaging diverse stakeholders in the planning process, revitalization projects can achieve multiple community goals.

Consistent with previous work completed by the ACHP, the purpose of this policy is to ensure that historic preservation is considered as a tool to stabilize and enhance communities that have suffered from massive structural changes to their economy. It also recognizes that other communities, under less severe economic distress, will benefit from implementing the strategies described in the principles below.

The policy addresses the value of local communities developing historic property surveys, including those located in older neighborhoods with historic districts, to use as a tool in community revitalization. Only when local officials are aware of the historic significance of properties in a community can they make informed decisions about treatment and reuse. The National Register is also used to determine whether federal activities must comply with Section 106. Likewise, a property must first be listed on the National Register before it can qualify as a “certified historic structure” for receiving the 20 percent Federal Historic Preservation Tax Credit for the rehabilitation of historic, income-producing buildings. Other tax incentives are often coupled with this credit to revitalize historic neighborhoods, such as the Federal Low-Income Housing Tax Credit and state historic preservation tax incentives. Recent studies have documented that these tax incentive programs contribute to economic development and job production. Further, they are one of the primary tools for revitalizing neighborhoods that were once considered blighted.

The ACHP is pleased to issue this Policy Statement on Historic Preservation and Community Revitalization as we celebrate the 50th Anniversary of the NHPA. The principles outlined above include sound guidance to assist communities in their efforts to incorporate historic preservation into project planning. As communities develop revitalization plans to improve local neighborhoods and target areas, they should work with federal and state agencies, SHPOs, THPOs, developers, residents, and other stakeholders to implement the following principles. While many are related to the Section 106 consultation, some can be applied independently of this review.

Implementing Principles

I. Historic preservation values should be considered in the revitalization of both rural and urban communities.

II. Historic preservation should be incorporated in local planning for sustainability, smart growth, and community resilience.

III. Historic property surveys, including those in historic districts, are tools that should be used by communities to provide for federal, state, and local planning and revitalization projects.

IV. Effective citizen engagement allows community residents to identify resources they care about and share their views on local history and cultural significance.

V. Indian tribes may have an interest in urban and rural community revitalization projects that may affect sites of historic, religious, and cultural significance to them.

VI. Private resources can contribute to local revitalization efforts and leverage public funds.

VII. Tax credits can be used to promote historic preservation projects that preserve local assets.

VIII. Early consideration of alternatives to avoid or minimize adverse effects to historic properties is essential to ensure proper integration of historic properties in revitalization plans.

IX. Development of flexible and programmatic solutions can help expedite historic preservation reviews as well as more effectively and proactively address situations involving recurring loss of historic properties.

X. Creative mitigation can facilitate future preservation in communities.

These principles are interpreted below to provide context for stakeholders who may consider applying them to their communities.

I. Historic preservation values should be considered in the revitalization of both rural and urban communities.

The NHPA was established in 1966 to ensure that local revitalization and economic development projects were responsive to historic preservation values. Unfortunately, the provisions of the NHPA requiring consideration of historic properties in project planning have not been applied consistently by federal, state, and local governments. This is particularly the case when federal funds are allocated to local communities to address substantial amounts of vacancies, abandonments, and the related blight afflicting communities. Historic properties should be viewed as community assets and their treatment should be informed by an analysis of alternatives, including stabilization, rehabilitation, new infill construction, and demolition. Suburban, rural, and tribal communities have experienced many of the same or similar issues as urban areas over the past decades. Historic preservation tools can assist many of these communities, particularly when integrated in project planning as prescribed by Section 106 of the NHPA. The adaptation and reuse of historic properties is a viable alternative that should be given due consideration by federal, state, and local officials when renewing communities. Although historic preservation is often ignored by stakeholders who assume that redevelopment will allow them to spend project funds exclusively on new construction, decades of historic preservation projects affirm that historic assets can also revive a community. Therefore, historic preservation should be an option that is regularly considered by officials, in planning the revitalization of neighborhoods, target areas, and communities in urban, rural, and tribal areas where there is considerable economic decline and blight.

II. Historic preservation should be incorporated in local planning for sustainability, smart growth, and community resilience.

The core principles in sustainability, smart growth, and community resilience programs administered by federal government have been embraced by urban and rural communities nationwide during the past decade. Smart growth is a cohesive group of planning tools that are focused on creating a development pattern that can be replicated throughout a region or locality, while sustainable communities are focused on conserving and improving existing resources, including making historic assets such as buildings, neighborhoods and communities greener, stronger and more livable. Both smart growth and sustainability embrace historic preservation, emphasizing the value in reusing historic properties. Successful historic preservation techniques often bring together both historic properties and sensitive new construction to create a dynamic and attractive environment. Preserving historic properties and neighborhoods in a community not only retains streetscapes and original settings, but also can create a focal point for a community to embrace its history, culture, and sense of place, all of which benefit revitalization efforts and promote community stability.

In the aftermath of natural disasters, climate change events, and unanticipated emergencies, recovery projects are designed to revitalize and rebuild resilient communities. Achieving these goals requires aligning federal funding with local rebuilding visions, cutting red tape for obtaining assistance, developing region-wide plans for rebuilding; and ensuring that communities are rebuilt to better withstand future disasters, climate events and unanticipated emergencies. Maintaining, rehabilitating, and reusing existing historic buildings can contribute to stabilizing and revitalizing neighborhoods. Community recovery and revitalization plans should be specific in the use and treatment of historic properties, coordinated with plans for new construction and infrastructure. Recognizing that historic preservation strategies are compatible with smart growth, sustainability, and resilient community principles will enable planners to create housing choices, foster a sense of place, generate jobs, maintain walkable neighborhoods, and preserve open spaces, thereby promoting a holistic community environment.

III. Historic property surveys, including those in historic districts, are tools that should be used by communities to provide a foundation for federal, state, and local planning and revitalization projects.

City-wide surveys that are incomplete or nonexistent may cause the unnecessary loss of historic properties as well as delays in project planning and implementation. Without the historical context explaining the evolution of neighborhoods and the significance of existing building stock, decision making is uninformed. In contrast, communities that have completed historic property surveys that include historic context, identify architectural, archeological, and cultural resources, and define historic districts are able to develop more effective strategies for revitalization. Surveys conducted in advance can identify areas that should be given special attention in project planning and assist developers and local officials to designate areas for tax or other financial incentives. While funds for surveys are often challenging to identify, many States have used SHPO and federal Historic Preservation Funds to update surveys consistent with the scope of work outlined in State-wide plans. Additional survey information may be forthcoming during Section 106 reviews when federal agencies and applicants identify and evaluate properties listed in or eligible for listing in the National Register of Historic Places. Regulations for some federal programs allow administrative funds to be allocated for surveys, particularly when there is a need for long-term plans to be approved for a neighborhood or target area. Federal agencies should prioritize assistance to communities for such planning, where possible. In addition, local agencies are encouraged to incorporate historic preservation survey information in local Geographic Information Systems to expedite regulatory reviews required before projects can be approved for funding.

IV. Effective citizen engagement allows community residents to identify resources they care about and share their views on local historic and cultural significance.

The consultation process under Section 106 should be designed to elicit effective and authentic citizen engagement. Such engagement will help to identify places important to the community early in the consultation process. Special attention should be given to including communities that have been overlooked in prior efforts to identify historic properties, as is often the case with those places associated with diverse populations that have minimal representation in the National Register. Such information should be routinely sought by local officials when complying with Section 106 and evaluating properties for listing in the National Register or on state surveys. SHPOs and CLG's can assist in providing historic context statements for such properties. Involving local academic institutions, civic organizations, and professional associations in the work of local preservation commissions and architectural review boards can help ensure that the views of all segments of the community inform the identification and evaluation of historic properties. Citizen engagement is also critical in the analysis of project alternatives to deal with adverse effects of redevelopment on historic properties. Many of the outcomes from Section 106 reviews are shaped by recommendations from citizens that participate as consulting parties in the process. Federal and local officials, therefore, should provide guidance and technical assistance to facilitate citizen engagement in surveys and project planning.

V. Indian tribes may have an interest in urban and rural community revitalization projects that may affect sites of historic, religious, and cultural significance to them.

As indigenous peoples of the Nation, Indian tribes have lived in many places before they became cities and towns. Accordingly, Indian tribes often have a stake in the effects of new development on their history and culture. It therefore is important to involve Indian tribes in the Section 106 reviews, particularly in the identification and evaluation of historic properties and assessment of effects. Since Indian tribes are required to be invited to participate in Section 106 as consulting parties, federal and local officials should become familiar with those Indian tribes that have ancestral and historic associations with their communities. When planning projects and conducting Section 106 reviews, planners need to look beyond archaeologists in assessing potential development sites and involve Indian tribes to ensure that cultural resources important to them inform the siting and design of projects. Indian tribes can also contribute to local sustainability efforts based on their ecological and environmental knowledge of specific geographic areas to which they attach religious and cultural significance. Involving Indian tribes early in Section 106 consultations allows them to advise the federal agency on protocols that should be followed in the event of unanticipated discoveries of sites of traditional religious and cultural significance during project implementation. Finally, Indian tribes can provide relevant input to the agency in developing mitigation measures when sites cannot be avoided.

VI. Private resources can contribute to local revitalization efforts and leverage public funds.

Private resources are instrumental in ensuring community revitalization efforts are successful and transformative. Federal grant and loan programs can be used in conjunction with private resources for local revitalization efforts such as the Department of Transportation's TIGER Program and the Environmental Protection Agency's Brownfield Grants. These programs require local communities to provide matching funds, which are often solicited from the private sector. Local institutions such as universities, hospitals, foundations, banks, land banks, and local businesses frequently provide matching funds to local governments. In addition, they often partner with developers on multi-use historic projects that benefit the community as a whole. Banking institutions are able to get credit under the Community Reinvestment Act (CRA) Program when they contribute to local revitalization efforts. A bank's CRA performance record is taken into account when evaluating their overall performance. Therefore, advance meetings with local banking institutions to discuss strategies regarding loans for commercial and residential community revitalization projects is a good approach to identifying resources to leverage public funds.

VII. Tax credits can be used to promote historic preservation projects that preserve local assets.

Recent research conducted on the impacts of using Federal Historic Tax Credits have revealed that investments in historic rehabilitation have greater positive impact on employment, state and local taxes, and the financial strength of the state than new construction. The use of federal Historic Tax Credits (HTC), Low Income Housing Tax Credits (LIHTC), and State Historic Tax Credits can often be combined to provide neighborhoods with financial, social, and economic benefits. Local governments should consider how these incentives can be used to fund not only major projects but also smaller and mid-size neighborhood projects. SHPOs are uniquely situated to leverage federal HTC projects, having worked closely with the National Park Service and the developer. After completing Part 1 of the federal HTC application, local officials should be encouraged to work closely with federal regional and field offices, land banks, SHPOs, and local realtors to identify other vacant and abandoned buildings that are candidates for rehabilitation. By stabilizing an entire neighborhood, these sites can be used for affordable housing and transit oriented development projects. NPS and SHPOs can share cases studies and best management practices on federal HTC and applicability of the Secretary of Interior's Standards for the Treatment of Historic Properties, and meet with local officials and developers to discuss strategies for preserving local historic properties.

VIII. Early consideration of alternatives to avoid or minimize adverse effects to historic properties is essential to ensure proper integration of historic properties in revitalization plans.

Effective utilization of historic properties to support community revitalization goals requires that preservation be an integral part of local planning from the outset. Strategic efforts to stabilize local neighborhoods in communities experiencing substantial population loss should consider alternatives that can have a positive impact. Comprehensive neighborhood plans should disclose the criteria and processes local officials use to determine specific treatment for a building. SHPOs can also provide technical assistance when resources are available. Likewise, communities that have CLG's that work closely with SHPOs can participate in local administrative reviews and provide advice regarding how historic properties may be affected by revitalization plans. SHPOs and CLG's can coordinate with land banks to determine how they can facilitate building preservation, rehabilitation, and revitalization plans, as well as those proposed for substantial demolitions in target areas or community-wide.

IX. Flexible programmatic solutions help expedite historic preservation reviews and address situations involving recurring loss of historic properties.

Revitalization projects with federal involvement require compliance with Section 106 and other federal environmental review laws. Frequently, programmatic solutions can expedite compliance with regulatory requirements, improving the efficiency of project delivery. Section 106 Programmatic Agreements can respond to local conditions, foster larger community preservation goals, and expedite project reviews. Such agreements often clarify that plans and specifications developed for local revitalization projects, which adhere to the Secretary of Interior's Standards for the Treatment of Historic Properties, qualify for simplified review and achieve desirable preservation results. The public interest in preservation should guide planning, such as focusing reviews on exterior features and important interior spaces open to the public, which is included in the ACHP's Policy Statement on Affordable Housing and Historic Preservation, published in 2005. Planning for larger revitalization projects in advance of receiving federal monies could allow local officials to target resources for micro grants and loans that can stabilize residential and commercial properties on an interim basis. CLGs can participate in project planning and reviews and share with stakeholders local best management practices.

X. Creative mitigation that can facilitate future preservation in communities.

“Creative mitigation” is a concept that is used in environmental reviews when it is challenging, if not impossible, to avoid adverse effects or offset them using standard mitigation approaches. In Section 106 reviews, standard mitigation measures are customarily directed at the affected historic property and may include recordation, data recovery, or curation. Often the public benefit of using these standard measures is minimal and mitigation funds might be better invested in other preservation activities. Because the Section 106 process does not preordain a preservation outcome for affected historic properties, federal and local officials should consider creative mitigation measures that promote historic preservation goals even though they do not minimize harm to the impacted historic resource. For example, a neighborhood stabilization project may call for selective demolition of contributing structures within a historic district. To offset the loss, the project planners might commit funds for the renovation of other buildings within the district or fund a historic resources survey of a nearby neighborhood as the basis for future preservation planning. The activities proposed in creative mitigation measures should leverage the federal assistance to allow for broader public benefits. Discussions about creative mitigation should be initiated early in the Section 106 review process when options can be objectively evaluated and include consulting parties, representatives of the affected areas, as well as local officials, to ensure all views are considered. A desirable goal of creative mitigation measures is to advance community-wide preservation. They might include the development of local historic preservation ordinances, acquisition and relocation of historic properties to alternate sites in a historic district, or funding for landscaping and streetscape improvements in a district.

Federal, state, and local officials, applicants, and residents are encouraged to use these principles as plans are developed and Section 106 reviews coordinated. Please visit the ACHP's Web site, achp.gov, to view helpful case studies and best management practices that can further expand your knowledge of historic preservation tools, and how they are being used to revitalize and stabilize communities throughout the Nation.

Authority: 54 U.S.C. 304102(a).

Dated: February 26, 2016.
John M. Fowler,
Executive Director.

[FR Doc. 2016-04640 Filed 3-2-16; 8:45 am]

BILLING CODE 4310-K6-P